FARM CREDIT ADMINISTRATION

Sunshine Act Meetings

TIME AND DATE: 9:00 a.m., Thursday, February 10, 2022.

PLACE: Because of the COVID-19 pandemic, the public may only virtually attend this meeting. If you would like to virtually attend, at least 24 hours in advance, visit FCA.gov, select “Newsroom,” and then select “Events.” From there, access the linked “Instructions for board meeting visitors.”

STATUS: This meeting will be open to the public.

MATTERS TO BE CONSIDERED:

• Approval of January 13, 2022 Minutes

• Report on the Young, Beginning, and Small Farmers and Ranchers Forum

• Report on Farm Input Prices

• Conservators and Receivers Proposed Rule

CONTACT PERSON FOR MORE INFORMATION: If you need more information, need assistance for accessibility reasons, or have questions, contact Ashley Waldron, Secretary to the Board. Telephone: 703-883-4009. TTY: 703-883-4056.

Ashley Waldron,
Secretary to the Board.

[FR Doc. 2022-02058 Filed 1-27-22; 4:15 pm]

BILLING CODE 6705-01-P